FEDERAL MARITIME COMMISSION

Ocean Transportation Intermediary License Reissuances

The Commission gives notice that the following Ocean Transportation Intermediary license has been reissued pursuant to section 19 of the Shipping Act of 1984 (46 U.S.C. 40101).

License No.: 019060N.

Name: Skelton Sherborne Inc.

Address: 1225 North Loop West, Suite 432, Houston, TX 77008.

Date Reissued: May 10, 2013.

James A. Nussbaumer,
Deputy Director, Bureau of Certification and Licensing.

[FR Doc. 2013-14023 Filed 6-12-13; 8:45 am]

BILLING CODE 6730-01-P